DEPARTMENT OF COMMERCE

International Trade Administration

[A-533-824]

Certain Polyethylene Terephthalate Film, Sheet and Strip from India: Final Results of Antidumping Duty Administrative Review

AGENCY: Import Administration, International Trade Administration, Department of Commerce.

SUMMARY: On August 7, 2007, the Department of Commerce (Department) published in the Federal Register its preliminary results of the administrative review of the antidumping duty order on polyethylene terephthalate film, sheet and strip (PET film) from India. See Certain Polyethylene Terephthalate Film, Sheet and Strip From India: Preliminary Results of Antidumping Duty Administrative Review, 72 FR 44086 (August 7, 2007) (Preliminary Results).

The review covers one respondent, MTZ Polyfilms, Ltd. (MTZ).

Based on our analysis of comments received on the Preliminary Results, we have made changes to our calculations for MTZ. Therefore, the final results differ from the preliminary results of review. The final weighted-average dumping margin for MTZ is listed in the “Final Results of the Review” section below.

EFFECTIVE DATES: February 7, 2007.

FOR FURTHER INFORMATION CONTACT: Jun Jack Zhao or Martha Douthit, AD/CVD Operations, Import Administration, International Trade Administration, U.S. Department of Commerce, 14th and Constitution Avenue, NW., Washington, DC 20230; telephone: (202) 482-1396 or (202) 482-5050, respectively.

SUPPLEMENTARY INFORMATION:

Background

On August 7, 2007, the Department published the preliminary results of the administrative review of the antidumping duty order on PET film from India. In accordance with 19 CFR. 351.309(c)(ii), we invited parties to comment on our Preliminary Results. On September 6, 2007, MTZ, the sole respondent in this administrative review, submitted a case brief relating to one issue: Adjustment of export price by the amount of countervailing duties imposed on PET film. No rebuttal brief was filed by any other interested party, and no hearing was requested. We have now completed the administrative review in accordance with section 751 of the Tariff Act of 1930, as amended (the Act).

Period of Review

The period of review (POR) is July 1, 2005 through June 30, 2006.

Scope of the Order

For purposes of this administrative review, the products covered are all gauges of raw, pretreated or primed PET Film, whether extruded or coextruded. Excluded are metallized films and other finished films that have had at least one of their surfaces modified by the application of a performance-enhancing resinous or inorganic layer of more than 0.00001 inches thick. Since the order was published, there has been one scope determination, dated August 25, 2003. In this determination, requested by International Packaging Films, Inc., the Department determined that tracing and drafting film is outside of the scope of the order. Imports of PET Film are classifiable under the Harmonized Tariff Schedule of the United States (HTSUS) under item number 3920.62.00. HTSUS subheadings are provided for convenience and customs purposes. The written scope of this proceeding is dispositive.

Analysis of Comments Received

All issues raised by interested parties in the case briefs are listed in the Appendix to this notice, and addressed in the Memorandum from Stephen J. Claeys, Deputy Assistant Secretary for Import Administration, to David M. Spooner, Assistant Secretary for Import Administration, Issues and Decision Memorandum for the Administrative Review of the Antidumping Duty Order on PET Film from India (Decision Memorandum), which is hereby adopted by this notice. Parties can find a complete discussion of all issues raised in this administrative review in this public memorandum, which is on file in the Central Records Unit, Room B-099 of the main Department building. In addition, a complete version of the Decision Memorandum can be accessed directly on the Internet at http://ia.ita.doc.gov/. The paper copy and electronic version of the Decision Memorandum are identical in content.

Changes Since the Preliminary Results

Based on our analysis of comments received from MTZ, we have made changes to the margin calculation used in the Preliminary Results, taking into consideration the amount of countervailing duties imposed on subject merchandise to offset export subsidies, in accordance with section 772(c)(1)(C)of the Act.

Final Results of Review

We determine that the following percentage margin exists for the period July 1, 2005 through June 30, 2006:

Manufacturer/Exporter | Weighted- average margin (%)
MTZ Polyfilms, Ltd | 0.00

Duty Assessment

The Department shall determine, and U.S. Customs and Border Protection shall assess, antidumping duties on all appropriate entries. The Department will issue appraisement instructions directly to U.S. Customs and Border Protection. For duty-assessment purposes, we calculated importer-specific assessment rates by dividing the dumping margins calculated for each importer by the total entered value of sales for each importer during the period of review.

The Department intends to issue assessment instructions to CBP 15 days after the date of publication of these final results of review.

Cash Deposit Requirements

The following deposit requirements will be effective upon publication of this notice of final results of administrative review for all shipments of PET Film from India entered, or withdrawn from warehouse, for consumption on or after the date of publication, as provided by section 751(a)(1) of the Act: (1) The cash deposit rate for MTZ will be the rate shown above; (2) for previously reviewed or investigated companies not covered in this review, the cash deposit rate will continue to be the company-specific rate published for the most recent period; (3) if the exporter is not a firm covered in this review, a prior review, or the less-than-fair-value (LTFV) investigation, but the manufacturer is a firm covered in this review, the cash deposit rate will be the rate established for the most recent period for the manufacturer of the subject merchandise; and (4) if neither the exporter nor the manufacturer is a firm covered in this or any previous proceeding conducted by the Department, the cash deposit rate will continue to be 5.71 percent, which is the all others rate established in the less than fair value investigation (24.14 percent), adjusted for the export subsidy rate found in the companion countervailing duty investigation. These cash deposit requirements, when imposed, shall remain in effect until further notice.

Reimbursement of Duties

This notice also serves as a final reminder to importers of their responsibility under 19 CFR 351.402(f)(2) to file a certificate regarding the reimbursement of antidumping duties or countervailing duties prior to liquidation of the relevant entries during this review period. Failure to comply with this requirement could result in the Secretary's presumption that reimbursement of the antidumping duties or countervailing duties occurred and the subsequent assessment of double antidumping duties or countervailing duties.

Notification of Interested Parties

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) of the Act.

Dated: January 31, 2008.
David M. Spooner,
Assistant Secretary for Import Administration.

Issues in the Decision Memorandum

Appendix 1

1. Adjustment of Export Price (EP) by the countervailing duties imposed on PET Film.

[FR Doc. E8-2270 Filed 2-6-08; 8:45 am]

BILLING CODE 3510-DS-P